ENVIRONMENTAL PROTECTION AGENCY

[FRL-7065-1]

Agency Information Collection Activities: Submission for OMB Review; Comment Request; Retrofit/Rebuild Requirements for 1993 and Earlier Model Year Urban Buses

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Retrofit/Rebuild Requirements for 1993 and Earlier Model Year Urban Buses, OMB Control Number 2060-0302, expiration September 30, 2001. The ICR describes the nature of the information collection and its expected burden and cost; where appropriate, it includes the actual data collection instrument.

DATES: Comments must be submitted on or before October 25, 2001.

ADDRESSES: Send comments, referencing EPA ICR No. 1702.03 and OMB Control No. 2060-0302 to the following addresses: Susan Auby, U.S. Environmental Protection Agency, Collection Strategies Division (Mail Code 2822), 1200 Pennsylvania Avenue, NW., Washington, D.C. 20460-0001; and to Office of Information and Regulatory Affairs, Office of Management and Budget (OMB), Attention: Desk Officer for EPA, 725 17th Street, NW., Washington, D.C. 20503.

FOR FURTHER INFORMATION CONTACT: For a copy of the ICR contact Susan Auby at EPA by phone at (202) 260-4901, by E-mail at Auby.Susan@epamail.epa.gov, or download off the Internet at http://www.epa.gov/icr and refer to EPA ICR No. 1702.03. For technical questions about the ICR contact Anthony Erb, tel: (202) 564-9259; fax: (202) 565-2957 ; or email: erb.anthony @epa.gov.

SUPPLEMENTARY INFORMATION: Title: Retrofit/Rebuild Requirements for 1993 and Earlier Model Year Urban Buses; OMB Control No.2060-0302; EPA ICR No. 1702.03; expiration September 30, 2001. This is a request for extension of a currently approved collection.

Abstract: Section 219 (d) of the Clean Air Act (CAA), as amended in 1990, required that the EPA promulgate regulations for urban buses that: (a) operate in Metropolitan Statistical Areas (MSA) or consolidated MSA's with a 1980 population of 750,000 or more (the program could be expanded in the future to MSA's of less than 750,000, under section 219(c) of the CAA); (b) are not subject to the 1994 or later urban bus standards; and (c) have their engines replaced or rebuilt after January 1, 1995. The CAA Amendments require the subject urban buses be retrofitted to comply with an emission standard that reflects the best retrofit technology and maintenance practices reasonably achievable. Under these provisions, EPA has set requirements for pre-1994 model year urban buses that are effective after January 1, 1995, when urban bus engines are rebuilt or replaced. The program requires that the particulate emissions level of the urban bus engines be reduced to a level below the engines' original particulate level through the use of retrofit/rebuild equipment that is certified by EPA. The program will phase itself out as pre-1994 are mandatory. All the information required by this collection is needed for the implementation and the activities of various EPA programs. The information is collected by the Engine Programs Group, Certification and Compliance Division, Office of Transportation and Air Quality, Office of Air and Radiation. Specific certification information submitted by manufacturers is held as confidential. Confidentiality of proprietary information is granted in accordance with the Freedom of Information Act, EPA regulations at 40 CFR part 2, and class determinations issued by EPA's Office of General Counsel.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on May 8, 2001 (66 FR 23254); no comments were received.

Burden Statement: The annual public reporting and record keeping burden for this collection of information is estimated to average 20 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of retrofit equipment and urban bus fleet operators.

Estimated Number of Respondents: 159.

Frequency of Response: Annually.

Estimated Total Annual Hour Burden: 3,709.

Estimated Total Annualized Capital, O&M Cost Burden: $105,700.

Send comments on the Agency's need for this information, the accuracy of the provided burden estimates, and any suggested methods for minimizing respondent burden, including through the use of automated collection techniques to the addresses listed above. Please refer to EPA ICR No. 1702.03 and OMB Control No. 2060-0302 in any correspondence.

Dated: September 12, 2001.
Oscar Morales,
Director, Collection Strategies Division.

[FR Doc. 01-23918 Filed 9-24-01; 8:45 am]

BILLING CODE 6560-50-P